DEPARTMENT OF COMMERCE

International Trade Administration

[C-508-810]

Pure Magnesium From Israel: Postponement of Time Limit for Preliminary Determination of Countervailing Duty Investigation

AGENCY: Import Administration, International Trade Administration, Department of Commerce.

EFFECTIVE DATE: December 26, 2000.

FOR FURTHER INFORMATION CONTACT: Marian Wells, Melanie Brown, Office of CVD/AD Enforcement Group I, Import Administration, International Trade Administration, U.S. Department of Commerce, 14th Street and Constitution Avenue, NW., Washington, DC 20230, telephone (202) 482-6309 or (202) 482-4987.

POSTPONEMENT OF PRELIMINARY DETERMINATION: On November 14, 2000, the Department initiated the countervailing duty investigation of pure magnesium from Israel. See Notice of Initiation of Countervailing Duty Investigation: Pure Magnesium From Israel, 65 FR 68126 (November 14, 2000). The preliminary determination currently must be issued by January 10, 2001.

On December 8, 2000, the petitioners made a timely request pursuant to 19 CFR 351.205(e) of the Department's regulations for a postponement of the preliminary determination in accordance with section 703(c)(1)(A) of the Tariff Act of 1930, as amended (the Act). The petitioners requested a postponement until February 14, 2001, in order to allow time for petitioners to submit comments regarding the respondents' questionnaire response and to allow time for the Department to determine the extent to which particular subsidies are being used.

The petitioners' request for the postponement was timely, and the Department finds no compelling reason to deny the request. Therefore, we are postponing the preliminary determination until no later than February 14, 2001.

This notice of postponement is published pursuant to section 703(c)(2) of the Act.

Dated: December 19, 2000.
Richard W. Moreland,
Deputy Assistant Secretary For Import Administration.

[FR Doc. 00-32873 Filed 12-22-00; 8:45 am]

BILLING CODE 3510-DS-P